DEPARTMENT OF THE INTERIOR

Bureau of Land Management

[LLWY-957400-13-L14200000-BJ0000]

Filing of Plats of Survey, Wyoming and Nebraska

AGENCY: Bureau of Land Management, Interior.

ACTION: Notice.

SUMMARY: The Bureau of Land Management (BLM) has filed the plats of survey of the lands described below in the BLM Wyoming State Office, Cheyenne, Wyoming, on the dates indicated.

FOR FURTHER INFORMATION CONTACT: Bureau of Land Management, 5353 Yellowstone Road, P.O. Box 1828, Cheyenne, Wyoming 82003.

SUPPLEMENTARY INFORMATION: These surveys were executed at the request of the Bureau of Land Management and the U.S. Forest Service, and are necessary for the management of resources. The lands surveyed are:

The plat and field notes representing the dependent resurvey of a portion of the Fourteenth Standard Parallel North, through Range 83 West, the east, west and north boundaries, and a portion of the subdivisional lines, Township 57 North, Range 83 West, Sixth Principal Meridian, Wyoming, Group No. 804, was accepted June 22, 2012.

The supplemental plat showing amended lottings, Township 52 North, Range 72 West, Sixth Principal Meridian, Wyoming, Group No. 868, was accepted July 31, 2012 and is based upon the dependent resurvey plat of Township 52 North, Range 72 West, accepted February 7, 1980, and supplemental plat of Township 52 North, Range 72 West, accepted September 13, 1985.

The supplemental plat showing amended lottings, Township 52 North, Range 72 West, Sixth Principal Meridian, Wyoming, Group No. 868, was accepted August 14, 2012, and is based upon the dependent resurvey plat of Township 52 North, Range 72 West, accepted February 7, 1980, and the supplemental plat of Township 52 North, Range 72 West, accepted September 13, 1985.

The plat and field notes representing the dependent resurvey of a portion of the subdivisional lines, the survey of the subdivision of section 8, and the metes and bounds survey of Lot 17, section 8, Township 56 North, Range 73 West, Sixth Principal Meridian, Wyoming, Group No. 836, was accepted August 14, 2012.

The supplemental plat showing amended lottings, Township 33 North, Range 109 West, Sixth Principal Meridian, Wyoming, Group No. 873 was accepted September 26, 2012, and is based upon the dependent resurvey plat of Township 33 North, Range 109 West, accepted October 31, 2007.

The plat and field notes representing the dependent resurvey of a portion of the north boundary, a portion of the subdivisional lines, and the survey of the subdivision of certain sections, Township 50 North, Range 83 West, Sixth Principal Meridian, Wyoming, Group No. 843, was accepted November 14, 2012.

The plat and field notes representing the dependent resurvey of Lot No. 39 and Lot No. 42, a portion of Lot No. 38 and Lot No. 40, a portion of the Twelfth Guide Meridian West, through Township 55 North, between Ranges 96 and 97 West, a portion of the subdivisional lines and the survey of the subdivision of section 7, Township 55 North, Range 96 West, Sixth Principal Meridian, Wyoming, Group No. 844, was accepted November 14, 2012.

The plat and field notes representing the corrective dependent resurvey of portions of the subdivisional lines, Township 29 North, Range 100 West, Sixth Principal Meridian, Wyoming, Group No. 849, was accepted December 7, 2012.

The plat and field notes representing the dependent resurvey of a portion of the subdivisional lines, Township 20 North, Range 82 West, Sixth Principal Meridian, Wyoming, Group No. 853, was accepted December 7, 2012.

The plat and field notes representing the dependent resurvey of portions of the west and north boundaries and the subdivisional lines; the corrective dependent resurvey of a portion of the north boundary, and the survey of the subdivision of sections 5, 6, 7 and 8, Township 30 North, Range 52 West, Sixth Principal Meridian, Nebraska, Group No. 176, was accepted December 7, 2012.

Copies of the preceding described plats and field notes are available to the public at a cost of $1.10 per page.

Dated: January 16, 2013.
John P. Lee,
Chief Cadastral Surveyor, Division of Support Services.

[FR Doc. 2013-01458 Filed 1-24-13; 8:45 am]

BILLING CODE 4310-22-P